INTERNATIONAL TRADE COMMISSION

[Investigation No. 337-TA-982]

Certain RF Capable Integrated Circuits and Products Containing the Same: Commission Determination Not To Review an Initial Determination Granting Complainant's Unopposed Motion To Terminate the Investigation in Its Entirety Based Upon Withdrawal of the Complaint; Termination of Investigation

AGENCY: U.S. International Trade Commission.

ACTION: Notice.

SUMMARY: Notice is hereby given that the U.S. International Trade Commission has determined not to review an initial determination (“ID”) (Order No. 28) of the presiding administrative law judge (“ALJ”) granting an unopposed motion to terminate the investigation in its entirety based upon withdrawal of the complaint.

FOR FURTHER INFORMATION CONTACT: Panyin A. Hughes, Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted Inv. No. 337-TA-982 on January 21, 2016, based on a complaint filed by ParkerVision, Inc. of Jacksonville, Florida (“ParkerVision”). 81 FR 3474-75 (Jan. 21, 2016). The complaint alleges violations of section 337 of the Tariff Act of 1930, as amended (19 U.S.C. 1337), in the importation into the United States, the sale for importation, and the sale within the United States after importation of certain RF capable integrated circuits and products containing the same by reason of infringement of certain claims of U.S. Patent No. 8,571,135 (“the '135 patent”); U.S. Patent No. 6,879,817 (“the '817 patent”); U.S. Patent No. 7,929,638 (“the '638 patent”); and U.S. Patent No. 9,118,528. The notice of investigation named the following respondents: Apple Inc. of Cupertino, California; LG Electronics, Inc. of Seoul, Republic of Korea; LG Electronics U.S.A., Inc. of Englewood Cliffs, New Jersey; LG Electronics MobileComm U.S.A., Inc. of San Diego, California; Qualcomm Incorporated of San Diego, California; Samsung Electronics Co., Ltd. of Suwon-Shi, Republic of Korea; Samsung Electronics America, Inc. of Ridgefield Park, New Jersey; and Samsung Semiconductor, Inc. of San Jose, California. Id. at 3474. The Office of Unfair Import Investigations is also a party to the investigation. Id. at 3475.

After institution, LG Electronics U.S.A., Inc. and the Samsung respondents separately were terminated from the investigation. See Notice (Aug. 18, 2016); Notice (Aug. 19, 2016). The asserted claims of the '135 patent, the '817 patent, and the '638 patent were also terminated from the investigation. See Notice (Feb. 22, 2017); Notice (Sept. 7, 2016).

On March 12, 2017, ParkerVision moved to terminate the investigation in its entirety based upon withdrawal of the complaint. On March 23, 2017, the Commission investigative attorney filed a response in support of the motion. That same day, the respondents indicated that they do not oppose the motion.

On April 3, 2017, the ALJ issued the subject ID, granting the unopposed motion. The ALJ found that the motion complied with the requirements of Commission Rule 210.21(a)(1) (19 CFR 210.21(a)(1)) and further found that no extraordinary circumstances prohibited granting the motion. None of the parties petitioned for review of the ID.

The Commission has determined not to review the ID.

The authority for the Commission's determination is contained in section 337 of the Tariff Act of 1930, as amended (19 U.S.C. 1337), and in Part 210 of the Commission's Rules of Practice and Procedure (19 CFR part 210).

By order of the Commission.
Issued: April 28, 2017.
Lisa R. Barton,
Secretary to the Commission.

[FR Doc. 2017-08962 Filed 5-3-17; 8:45 am]

BILLING CODE 7020-02-P